DEPARTMENT OF VETERANS AFFAIRS

Advisory Committee on Minority Veterans; Notice of Meeting

The Department of Veterans Affairs (VA) gives notice under the Federal Advisory Committee Act that the Advisory Committee on Minority Veterans will meet on December 11-13, 2018, at the Department of Veterans Affairs, 810 Vermont Avenue NW, Conference Room 230, Washington, DC. The meetings will be held:

Date | Time
Tuesday, December 11, 2018 | 8:00 a.m. to 5:00 p.m.
Wednesday, December 12, 2018 | 8:00 a.m. to 4:30 p.m.
Thursday, December 13, 2018 | 8:00 a.m. to 1:00 p.m.

This meeting is open to the public.

The purposes of the Committee are to: Advise the Secretary on the administration of VA benefits and services to minority Veterans; assess the needs of minority Veterans; and evaluate whether VA compensation, medical and rehabilitation services, outreach, and other programs are meeting those needs. The Committee makes recommendations to the Secretary regarding such activities.

On December 11, the Committee will receive briefings and updates from the Center for Minority Veterans, National Cemetery Administration, Veterans Experience Office, and Veterans Benefits Administration. On December 12, the Committee will receive briefings and updates from the Board of Veterans Appeals, Office of Health Equity, Mental Health, Center for Women Veterans, Veterans Health Administration, Office of Telehealth, Office of Policy & Planning, Million Veteran Program, and Women's Health Services. On December 13, the Committee will receive briefings and updates from the Office of Diversity & Inclusion, Leadership Development Programs, Ex-Officios Update and hold an exit briefing with VBA, VHA and NCA. The Committee will receive public comments from 10:00 a.m. to 10:15 a.m. After the Leadership Exit Briefing, the Committee will continue to work on their report.

A sign-in sheet for those who want to give comments will be available at the meeting. Individuals who speak are invited to submit a 1-2 page summary of their comments at the time of the meeting for inclusion in the official meeting record. Members of the public may also submit written statements for the Committee's review to Ms. Juanita Mullen, Department of Veterans Affairs, Center for Minority Veterans (00M), 810 Vermont Avenue NW, Washington, DC 20420, or email at Juanita.Mullen@va.gov. Because the meeting will be in a Government building, anyone attending must be prepared to show a valid photo ID for checking in. Please allow 15 minutes before the meeting begins for this process. Any member of the public wishing to attend or seeking additional information should contact Ms. Mullen or Mr. Dwayne Campbell at (202) 461-6191 or by fax at (202) 273-7092.

Dated: November 21, 2018.
Jelessa M. Burney,
Federal Advisory Committee Management Officer.

[FR Doc. 2018-25783 Filed 11-26-18; 8:45 am]

BILLING CODE P